DEPARTMENT OF COMMERCE

National Oceanic and Atmospheric Administration

RIN 0648-XG537

Taking and Importing Marine Mammals; Taking Marine Mammals Incidental to Oil and Gas Activities in Cook Inlet, Alaska

AGENCY: National Marine Fisheries Service (NMFS), National Oceanic and Atmospheric Administration (NOAA), Commerce.

ACTION: Notice; receipt of application for Letter of Authorization; request for comments and information.

SUMMARY: NMFS has received a request from Hilcorp Alaska, LLC (Hilcorp) for authorization to take small numbers of marine mammals incidental to oil and gas activities in Cook Inlet, Alaska over the course of five years from the date of issuance. Pursuant to regulations implementing the Marine Mammal Protection Act (MMPA), NMFS is announcing receipt of the Hilcorp's request for the development and implementation of regulations governing the incidental taking of marine mammals. NMFS invites the public to provide information, suggestions, and comments on the Hilcorp's application and request.

DATES: Comments and information must be received no later than November 26, 2018.

ADDRESSES: Comments on the applications should be addressed to Jolie Harrison, Chief, Permits and Conservation Division, Office of Protected Resources, National Marine Fisheries Service. Physical comments should be sent to 1315 East-West Highway, Silver Spring, MD 20910 and electronic comments should be sent to ITP.young@noaa.gov.

Instructions: NMFS is not responsible for comments sent by any other method, to any other address or individual, or received after the end of the comment period. Comments received electronically, including all attachments, must not exceed a 25-megabyte file size. Attachments to electronic comments will be accepted in Microsoft Word or Excel or Adobe PDF file formats only. All comments received are a part of the public record and will generally be posted online at https://www.fisheries.noaa.gov/node/23111 without change. All personal identifying information (e.g., name, address) voluntarily submitted by the commenter may be publicly accessible. Do not submit confidential business information or otherwise sensitive or protected information.

FOR FURTHER INFORMATION CONTACT: Sara Young, Office of Protected Resources, NMFS, (301) 427-8401. An electronic copy of the Hilcorp's application may be obtained online at: https://www.fisheries.noaa.gov/national/marine-mammal-protection/incidental-take-authorizations-oil-and-gas.htm. In case of problems accessing these documents, please call the contact listed above.

SUPPLEMENTARY INFORMATION:

Background

Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, a notice of a proposed authorization is provided to the public for review.

An incidental take authorization shall be granted if NMFS finds that the taking will have a negligible impact on the species or stock(s), will not have an unmitigable adverse impact on the availability of the species or stock(s) for subsistence uses (where relevant), and if the permissible methods of taking and requirements pertaining to the mitigation, monitoring and reporting of such takings are set forth.

NMFS has defined “negligible impact” in 50 CFR 216.103 as an impact resulting from the specified activity that cannot be reasonably expected to, and is not reasonably likely to, adversely affect the species or stock through effects on annual rates of recruitment or survival.

The MMPA states that the term “take” means to harass, hunt, capture, kill or attempt to harass, hunt, capture, or kill any marine mammal.

Except with respect to certain activities not pertinent here, the MMPA defines “harassment” as: Any act of pursuit, torment, or annoyance, which (i) has the potential to injure a marine mammal or marine mammal stock in the wild (Level A harassment); or (ii) has the potential to disturb a marine mammal or marine mammal stock in the wild by causing disruption of behavioral patterns, including, but not limited to, migration, breathing, nursing, breeding, feeding, or sheltering (Level B harassment).

Summary of Request

On September 29, 2018, NMFS received an adequate and complete application from Hilcorp requesting authorization for take of marine mammals incidental to oil and gas activities in Cook Inlet, Alaska. The requested regulations would be valid for five years, from April 1, 2019 through March 31, 2024. Hilcorp's plans to conduct necessary work, including 2D and 3D seismic surveys, geohazard surveys, vibratory sheet pile driving, and drilling of exploratory well. The proposed action may incidentally expose marine mammals occurring in the vicinity to sources of harassment, particularly through elevated levels of underwater sound in the marine environment, thereby resulting in incidental take, by Level A and Level B harassment. Therefore, Hilcorp requests authorization to incidentally take marine mammals.

Specified Activities

Hilcorp owns and operates in over 29 oil and has field production facilities, including several located in Cook Inlet. Hilcorp plans to continue to conduct exploration and production activities in Cook Inlet. The petition includes all four stages of oil and gas activities: Exploration, development, production, and decommissioning. The work expected to span five years includes: 30 days of 2D seismic survey, 45-60 days of 3D seismic survey, geohazard surveys in the Outer Continenal Shelf (OCS) (30 days), middle Cook Inlet subseawall area (14 days), and Trading Bay (30 days), exploratory wells in the OCS (40-60 days per well, 2-4 wells annually for three years) and Trading Bay (120-150 days), Iniskin Peninsula exploration and development (180 days annually for two years), platform and pipeline maintenance (180 days annually for five years), middle Cook Inlet well abandonment (90 days), and Drift River terminal decommissioning (120 days). Eleven species of marine mammal are known to occur in Cook Inlet: Eight cetacean species and three pinniped species. Of those species, the Northeastern Pacific stock of fin whale, Western North Pacific stock of humpback whale, Cook Inlet stock of beluga whale, and Western Distinct Population of Steller sea lion are listed as Endangered under the Endangered Species Act.

Information Solicited

Interested persons may submit information, suggestions, and comments concerning Hilcorp's request (see ADDRESSES). NMFS will consider all information, suggestions, and comments related to the request during the development of proposed regulations governing the incidental taking of marine mammals by Hilcorp, if appropriate.

Dated: October 22, 2018.
Donna Wieting,
Director, Office of Protected Resources, National Marine Fisheries Service.

[FR Doc. 2018-23405 Filed 10-25-18; 8:45 am]

BILLING CODE 3510-22-P